DEPARTMENT OF THE TREASURY

Office of Thrift Supervision

Submission for OMB Review; Comment Request

AGENCY: Office of Thrift Supervision (OTS), Treasury.

ACTION: Notice and request for comment.

SUMMARY: The proposed information collection requirement described below has been submitted to the Office of Management and Budget (OMB) for review, as required by the Paperwork Reduction Act of 1995. OTS is soliciting public comments on the proposal.

DATES: Submit written comments on or before October 9, 2001.

ADDRESSES: Send comments, referring to the collection by title of the proposal or by OMB approval number, to OMB and OTS at these addresses: Alexander Hunt, Office of Information and Regulatory Affairs, Office of Management and Budget, Room 10202, New Executive Office Building, Washington, DC 20503, or e-mail to ahunt@omb.eop.gov; and Information Collection Comments, Chief Counsel's Office, Office of Thrift Supervision, 1700 G Street, NW., Washington, DC 20552, FAX Number (202) 906-6518, or e-mail to infocollection.comments@ots.treas.gov. Comments and the related index will be posted on the OTS Internet Site at www.ots.treas.gov.

FOR FURTHER INFORMATION CONTACT: To obtain a copy of the submission to OMB, contact Sally W. Watts at sally.watts@ots.treas.gov, (202) 906-7380, or facsimile number (202) 906-6518, Regulations and Legislation Division, Chief Counsel's Office, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Title of Proposal: Amendment of a Savings Association's Bylaws.

OMB Number: 1550-0017.

Form Number: N/A.

Regulation requirement: N/A.

Description: Collection information is in compliance with the legal requirement for all federally chartered savings associations to file bylaw amendment applications or notices with .OTS.

Type of Review: Renewal.

Affected Public: Savings and Loan Associations and Savings Banks.

Estimated Number of Respondents: 7.

Estimated Frequency of Response: 1 per year.

Estimated Burden Hours per Response: 8 hours.

Estimated Total Burden: 56 hours.

Clearance Officer: Sally W. Watts, (202) 906-7380, Office of Thrift Supervision, 1700 G Street, NW., Washington, DC 20552.

OMB Reviewer: Alexander Hunt, (202) 395-7860, Office of Management and Budget, Room 10202, New Executive Office Building, Washington, DC 20503.

Dated: August 27, 2001.
Deborah Dakin,
Deputy Chief Counsel, Regulations & Legislation.

[FR Doc. 01-22293 Filed 9-5-01; 8:45 am]

BILLING CODE 6720-01-P